DEPARTMENT OF HOMELAND SECURITY

Coast Guard

33 CFR Chapter I

46 CFR Chapters I and III

49 CFR Chapter IV

[Docket No. USCG-2017-0480]

Evaluation of Existing Coast Guard Regulations, Guidance Documents, Interpretative Documents, and Collections of Information

AGENCY: Coast Guard, DHS.

ACTION: Request for comments; extension of comment period.

SUMMARY: We are extending the comment period on the subject request for comments that we published June 8, 2017. We are extending the deadline by 2 months because interested persons indicated they needed more time to respond. The comment period is now open through September 11, 2017.

DATES: Your comments and related material in response to our request for comments published June 8, 2017 (82 FR 26632) must now be received on or before September 11, 2017.

ADDRESSES: You may submit comments identified by docket number USCG-2017-0480 using the Federal eRulemaking Portal at http://www.regulations.gov. See the “Public Participation and Request for Comments” portion of the SUPPLEMENTARY INFORMATION section for further instructions on submitting comments.

FOR FURTHER INFORMATION CONTACT: For information about this document call or email Mr. Adam Sydnor, Coast Guard; telephone 202-372-1490, email HQS-SMB-REGreforminput@uscg.mil.

SUPPLEMENTARY INFORMATION: The Coast Guard is extending the comment period on the request for comments entitled “Evaluation of Existing Coast Guard Regulations, Guidance Documents, Interpretative Documents, and Collections of Information” that we published in the Federal Register on June 8, 2017 (82 FR 26632). We are extending the comment period by 2 months to allow interested persons more time to comment. You may now submit comments through September 11, 2017.

In our June 8, 2017 request for comments, which is available via www.regulations.gov in docket USCG-2017-0480, we requested your comments on Coast Guard regulations, guidance documents, and interpretative documents that you believe should be repealed, replaced, or modified. Also, we welcome your comments on our approved collections of information, regardless of whether the collection is associated with a regulation. We took this action in response to Executive Orders 13771, Reducing Regulation and Controlling Regulatory Costs; 13777, Enforcing the Regulatory Reform Agenda; and 13783, Promoting Energy Independence and Economic Growth. We plan to use your comments to assist us in our work with the Department of Homeland Security's Regulatory Reform Task Force.

Your comments should help us with our ongoing task of identifying and alleviating unnecessary regulatory burdens. After assessing responses to our June 8 request for comments, we may issue a similar request for comments next year.

Public Participation and Request for Comments

If you submit a comment, please include the docket number for the notice requesting comments (USCG-2017-0480), indicate the specific regulation, guidance document, interpretative document, or collection of information you are commenting on, and provide a reason for each suggestion or recommendation. Please make your comments as specific as possible, and include any supporting data or other information, such as cost information, you may have. Also, if you are commenting on a regulation, please provide a Federal Register (FR) or Code of Federal Regulations (CFR) citation when referencing a specific regulation, and provide specific suggestions regarding repeal, replacement or modification.

We encourage you to submit comments through the Federal eRulemaking Portal at http://www.regulations.gov. If your material cannot be submitted using http://www.regulations.gov, contact the person in the FOR FURTHER INFORMATION CONTACT section of this document for alternate instructions. Copies of Executive Orders 13771, 13777, and 13783, the June 8, 2017 request for comments, and all public comments are available in our online docket at http://www.regulations.gov.

We accept anonymous comments. All comments received will be posted without change to http://www.regulations.gov and will include any personal information you have provided. For more about privacy and the docket, visit http://www.regulations.gov/privacyNotice.

Although the Coast Guard will not respond to individual comments, we value your comments and will give careful consideration to them.

Dated: June 30, 2017.
J.G. Lantz,
Senior Accountable Regulatory Official, Director of Commercial Regulations and Standards.

[FR Doc. 2017-14254 Filed 7-6-17; 8:45 am]

BILLING CODE 9110-04-P